DEPARTMENT OF HOMELAND SECURITY

Coast Guard

[Docket No. USCG-2018-0043]

Towing Safety Advisory Committee; Vacancies

AGENCY: U.S. Coast Guard, Department of Homeland Security.

ACTION: Request for applications.

SUMMARY: The U.S. Coast Guard seeks applications for membership on the Towing Safety Advisory Committee. This Committee advises the Secretary of the Department of Homeland Security on matters relating to the shallow-draft inland and coastal waterway navigation and towing safety.

DATES: Completed applications should reach the U.S. Coast Guard on or before April 10, 2018.

ADDRESSES: Applicants should send a cover letter expressing interest in an appointment to the Towing Safety Advisory Committee that also identifies which membership category the applicant is applying under, along with a résumé detailing the applicant's experience via one of the following methods:

• By Email: Kenneth.j.doyle@uscg.mil

• By Fax: 202-372-8379; ATTN: Mr. Kenneth J. Doyle, Alternate Designated Federal Officer; or

• By Mail: Mr. Kenneth J. Doyle, Alternate Designated Federal Officer, Commandant (CG-OES-2), U.S. Coast Guard Stop 7509, 2703 Martin Luther King Jr. Ave. SE, Washington, DC 20593-7509.

FOR FURTHER INFORMATION CONTACT: Mr. Kenneth J. Doyle, Alternate Designated Federal Officer of the Towing Safety Advisory Committee; Telephone 202-372-1363; or Email at Kenneth.J.Doyle@uscg.mil.

SUPPLEMENTARY INFORMATION: The Towing Safety Advisory Committee is a Federal Advisory Committee which operates under the provisions of the Federal Advisory Committee Act, 5, United States Code, Appendix. The Towing Safety Advisory Committee was established under authority of the Act in the Department of Transportation, (Pub. L. 96-380), which was amended by section 621 of the Coast Guard Authorization Act of 2010, (Pub. L. 111-281); see 33 U.S.C. 1231a. The Committee advises the Secretary of Homeland Security on matters relating to the shallow-draft inland and coastal waterway navigation and towing safety. This advice also assists the U.S. Coast Guard in formulating the position of the United States regarding the towing industry in advance of the International Maritime Organization meetings.

It is expected that the Committee will meet at least twice a year in cities with large towing centers of commerce and populated by high concentrations of towing industry and related businesses. It may also meet for extraordinary purposes. Its subcommittees may also meet to consider specific tasks as required. The Committee and its subcommittees may conduct intercessional telephonic meetings when necessary, in response to specific U.S. Coast Guard tasking.

Each Towing Safety Advisory Committee member serves a term of office of up to 3 years. Members may serve a maximum of two consecutive terms. All members serve without compensation from the Federal Government; however, they may receive travel reimbursement and per diem.

We will consider applications for the following five positions that will become vacant on September 30, 2018:

1. Two positions representing the barge and towing industry, reflecting a regional geographical balance;

2. One position representing the offshore mineral and oil supply vessel industry;

3. One position representing shippers; and,

4. One position drawn from the general public to serve as a Special Government Employee.

To be eligible, applicants should have particular expertise, knowledge, and experience regarding shallow-draft inland, coastal waterway, and offshore, navigation and towing safety.

If you are selected as a member drawn from the general public, you will be appointed and serve as a Special Government Employee as defined in section 202(a) of Title 18, United States Code. As a candidate for appointment as a Special Government Employee, applicants are required to complete a Confidential Financial Disclosure Report (OGE Form 450). The Coast Guard may not release the reports or the information in them to the public except under an order issued by a Federal Court or as otherwise provided under the Privacy Act (5 U.S.C 552a). Only the Designated U.S. Coast Guard Ethics Official or his or her designee may release a Confidential Financial Disclosure Report. Applicants can obtain this form by going to the website of the Office of Government Ethics (www.oge.gov), or by contacting the individual listed above in FOR FURTHER INFORMATION CONTACT.

Registered lobbyists are not eligible to serve on Federal Advisory Committees in an individual capacity. See “Revised Guidance on Appointment of Lobbyists to Federal Advisory Committees, Boards and Commissions” (79 FR 47482, August 13, 2014). Registered lobbyists are lobbyists as defined in Title 2 U.S.C. 1602 who are required by Title 2 U.S.C. 1603 to register with the Secretary of the Senate and the Clerk of the House of Representatives. The position we list for a member from the general public would be someone appointed in their individual capacity and would be designated a Special Government Employee as defined in 202 (a) of Title 18, United States Code.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment selections.

If you are interested in applying to become a member of the Committee, send your cover letter and resume to Mr. Kenneth J. Doyle, Alternate Designated Federal Officer of the Towing Safety Advisory Committee via one of the transmittal methods in the ADDRESSES section by the deadline in the DATES section of this notice. All email submittals will receive email receipt confirmation.

Dated: February 6, 2018.
Jeffrey G. Lantz,
Director of Commercial Regulations and Standards.

[FR Doc. 2018-02696 Filed 2-9-18; 8:45 am]

BILLING CODE 9110-04-P